ENVIRONMENTAL PROTECTION AGENCY

40 CFR Part 139

[EPA-HQ-OW-2019-0482; FRL 7218-04-OW]

RIN 2040-AF92

Vessel Incidental Discharge National Standards of Performance; Correction

AGENCY: Environmental Protection Agency (EPA).

ACTION: Final rule; correction.

SUMMARY: The U.S. Environmental Protection Agency (EPA) is correcting an error found in the Vessel Incidental Discharge National Standards of Performance final rule. The final rule appeared in the Federal Register on October 9, 2024. This correction removes a footnote superscript number “1” that was included in error, as there is no accompanying footnote text.

DATES: This correction is effective on November 8, 2024.

ADDRESSES: The EPA has established a docket for this action under Docket ID No. EPA-HQ-OW-2019-0482. All documents in the docket are listed on the https://www.regulations.gov website. Although listed in the index, some information is not publicly available, e.g., CBI or other information whose disclosure is restricted by statute. Certain other material, such as copyrighted material, is not placed on the internet and will be publicly available only in hard copy form. Publicly available docket materials are available electronically through https://www.regulations.gov.

FOR FURTHER INFORMATION CONTACT: Jack Faulk, Oceans, Wetlands, and Communities Division, Office of Water (4504T), Environmental Protection Agency, 1200 Pennsylvania Avenue NW, Washington, DC 20460; telephone number: (202) 564-0768; email address: faulk.jack@epa.gov.

SUPPLEMENTARY INFORMATION: EPA is correcting the final rule that published in the Federal Register of Wednesday, October 9, 2024, (89 FR 82074); FRL-7218-01- OW to address an inadvertent error made of including a footnote superscript number “1” to the subpart heading “Appendix A to Part 139—Federally-Protected Waters”.

Correction

In FR Doc. 2024-22013 appearing at 89 FR 82074 in the Federal Register of Wednesday, October 9, 2024, the following correction is made:

Appendix A to Part 139—Federally-Protected Waters [Corrected]

1. On page 82145, in the second column, the subpart heading “Appendix A to Part 139—Federally-Protected Waters ¹” is corrected to read “Appendix A to Part 139—Federally-Protected Waters”.

Bruno Pigott,
Principal Deputy Assistant Administrator.

[FR Doc. 2024-25362 Filed 10-30-24; 8:45 am]

BILLING CODE 6560-50-P